DEPARTMENT OF THE INTERIOR

National Park Service

[NPS-WASO-NRSS-BRD-NPS0034550; PWONRADB0 PPMRSNR1Y.NM00000 (222); OMB Control Number 1024-0265]

Agency Information Collection Activities; NPS Institutional Animal Care and Use Committee (IACUC) General Submission, Field Study, Concurrence, Annual Review, and Amendment Forms

AGENCY: National Park Service, Interior.

ACTION: Notice of information collection; request for comment; re-opening of the comment period.

SUMMARY: In accordance with the Paperwork Reduction Act of 1995, we, the National Park Service (NPS) propose to renew an information collection with revisions. We are re-opening the comment period, which originally ended on June 21, 2022, as announced in the Federal Register on April 22, 2022 (87 FR 24196). This document includes information regarding the proposed utilization of a new platform, Key Solutions eProtocol IACUC Software Module for Animal Subjects, that was not described in the original notice. If you have already submitted comments, you are not required to resubmit them.

DATES: Interested persons are invited to submit comments on or before December 27, 2022.

ADDRESSES: Please provide a copy of your comments to the NPS Information Collection Clearance Officer (ADIR-ICCO), 12201 Sunrise Valley Drive, (MS-242) Reston, VA 20191 (mail); or phadrea_ponds@nps.gov (email). Please include “1024-0265” in the subject line of your comments.

FOR FURTHER INFORMATION CONTACT: To request additional information about this ICR by mail, contact Allie Petersen, NPS IACUC Administrator by mail at Biological Resource Division, 1201 Oakridge Drive, Suite 200, Fort Collins, CO 80525; or npsiacuc@nps.gov (email). You may also contact Dr. Laurie Baeten at laurie_baeten@nps.gov (email) or telephone at (970) 966-0756. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995, (PRA, 44 U.S.C. 3501 et seq.) and 5 CFR 1320.8(d)(1), all information collections require approval under the PRA.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Pursuant to the Animal Welfare Act (AWA), its Regulations (AWAR), and the Interagency Research Animal Committee (IRAC), any entity or institution that uses vertebrate animals for research, testing, or training purposes must have an oversight committee to evaluate all aspects of that institution's animal care and use. To be in compliance, the NPS is responsible for managing and maintaining an Institutional Animal Care and Use Committee (IACUC) that has the experience and expertise necessary to assess and approve all research, testing, or training activities involving vertebrate animals on NPS managed lands and territories. All research, testing, or training projects involving animals taking place on NPS territories must be approved by the NPS IACUC prior to their commencement.

Additional Issue for Comment: In coordination with the U.S. Fish and Wildlife Service (FWS) the NPS proposes to utilize a new platform, Key Solutions eProtocol IACUC Software Module for Animal Subjects, to support the IACUC review and approval process. The eProtocol IACUC will help ensure that NPS staff and anyone else in any activities on NPS-managed lands and territories employ field methods that are consistent with current best practices that minimize discomfort, distress, and pain by facilitating effective and efficient communication between the IACUC and submitters and assisting with committee administration management. The NPS will jointly use the eProtocol IACUC platform to facilitate collaboration and coordination with the FWS AUC. The shared, but compartmentalized, FWS/NPS platform will allow the two bureaus to maintain separate committees and protocol submissions but share data and move protocols and technical experts between the committees, as necessary.

The eProtocol IACUC will collect the following information in the current forms from submitters for consideration by the committee:

• IACUC General Submission (GS) Form (NPS Form 10-1301)

• IACUC Amendment Form (NPS Form 10-1301A)

• IACUC Annual Review Form (NPS Form 10-1302)

• IACUC Concurrence Form (NPS Form 10-1303)

• IACUC Field Study Form (NPS Form 10-1304)

As directed by the AWA, NPS IACUC is a self-regulating entity that currently consists of a Chair, NPS Regional members, and two additional members (a veterinarian serving as the “Attending Veterinarian” and another individual serving as the “Unaffiliated Member at-Large”).

Title of Collection: NPS Institutional Animal Care and Use Committee (IACUC) General Submission, Annual Review, Concurrence, Field Study, and Amendment Forms.

OMB Control Number: 1024-0265.

Form Numbers: NPS Forms 10-1301, 10-1301A, 10-1302, 10-1303 and 10-1304.

Type of Review: Revision of a currently approved collection.

Respondents/Affected Public: State and local governments; nonprofit organizations and private businesses.

Respondent's Obligation: Mandatory.

Total Estimated Annual Number of Responses: 223.

Estimated Completion Time per Response: 10 min to 3 hours (times vary depending upon the activity).

Total Estimated Annual Burden Hours: 141 Hours.

Frequency of Collection: On occasion.

Total Estimated Annual Nonhour Burden Cost: None.

An agency may not conduct or sponsor and a person is not required to respond to a collection of information unless it displays a currently valid OMB control number. The authority for this action is the Paperwork Reduction Act of 1995 (44 U.S.C. 3501 et seq.).

Phadrea Ponds,
Information Collection Clearance Officer, National Park Service.

[FR Doc. 2022-23515 Filed 10-27-22; 8:45 am]

BILLING CODE 4312-52-P